DEPARTMENT OF HEALTH AND HUMAN SERVICES

Centers for Disease Control and Prevention

[Program Announcement 00150]

Cooperative Agreement for University of Texas M. D. Anderson Center for Research on Minority Health; Notice of Availability of Funds

A. Purpose

The Centers for Disease Control and Prevention (CDC) announces the availability of fiscal year (FY) 2000 funds for a sole source cooperative agreement to support the University of Texas, M. D. Anderson Center for Research on Minority Health to address cancer prevention and control issues in racial/ethnic minority and medically under-served communities through the development and implementation of a comprehensive cancer control model for Texas and the nation that integrates programs in patient care, research, education and prevention. CDC defines comprehensive cancer control as an integrated and coordinated approach to reduce the incidence, morbidity, and mortality of cancer through prevention, early detection, treatment, rehabilitation, and palliation. This initiative addresses racial and ethnic minority populations, including medically under-served men and women, who experience increased rates of morbidity and mortality from cancer.

CDC is committed to achieving the health promotion and disease prevention objectives of “Healthy People 2010,” a national activity to reduce morbidity and mortality and improve the quality of life. This announcement is related to the focus area on Cancer. For the conference copy of “Healthy People 2010,” visit the Internet site http://www.health.gov/healthypeople.

B. Eligible Applicants

Assistance will be provided only to The University of Texas, M. D. Anderson Cancer Center. No other applications are solicited. Only one (1) application may be submitted. The sole source justification is based on congressional language in the Conference Report (H.R. Rep. 106-710, June 29, 2000), to the supplemental appropriations, 2000 (Public Law 106-246), which earmarked funding for the University of Texas.

C. Availability of Funds

Approximately $439,800 is available in FY 2000 to fund this program. It is expected that the award will begin September 30, 2000, and will be made for a 12-month budget period within a project period of up to four years. Funding estimates may change. Continuation awards within an approved project period will be made on the basis of satisfactory progress as evidenced by required reports and the availability of funds.

D. Where To Obtain Additional Information

If you have questions after reviewing the contents of all the documents, business management/technical assistance may be obtained from: Cynthia Collins, Grants Management Specialist, Grants Management Branch, Procurement and Grants Office, Announcement 00150, Centers for Disease Control and Prevention (CDC), Room 3000, 2920 Brandywine Road, Atlanta, GA 30341-4146, telephone (770) 488-2757, E-mail address: coc9@cdc.gov

For program technical assistance, contact: Phyllis Rochester, PhD, Division of Cancer Prevention and Control, National Center for Chronic Disease Prevention and Health Promotion (K-57), Centers for Disease Control and Prevention (CDC), 4770 Buford Highway, NE, Atlanta, GA 30341-3724, telephone 404-488-4880, E-mail address: PFR5@cdc.gov

Dated: August 15, 2000.
John L. Williams,
Director, Procurement and Grants Office, Centers for Disease Control and Prevention (CDC).

[FR Doc. 00-21164 Filed 8-18-00; 8:45 am]

BILLING CODE 4163-18-P